DEPARTMENT OF HEALTH AND HUMAN SERVICES

Centers for Disease Control and Prevention

[Program Announcement 01152]

Expansion of HIV/AIDS/STI/TB Surveillance and Laboratory Activities in the Federal Democratic Republic of Ethiopia; Notice of Availability of Funds

A. Purpose

The Centers for Disease Control and Prevention (CDC) announces the availability of fiscal year (FY) 2001 funds for a cooperative agreement program for the expansion of communicable disease surveillance and laboratory activities in the Democratic Republic of Ethiopia.

The purpose of this cooperative agreement is to improve human immunodeficiency virus/Acquired Immuno-Deficiency Syndrome/other sexually transmitted infections/tuberculosis (HIV/AIDS/STI/TB) surveillance and to improve laboratory capacity to assist in the diagnosis of these and other diseases related to HIV infection and transmission in Ethiopia. This will be accomplished by cooperation between CDC and the Ethiopian Health and Nutrition Research Institute (EHNRI) in Addis Ababa, Ethiopia. These collaborative activities could profoundly change the focus and activities of the Ethiopian National AIDS Policy. Most importantly, having a better understanding of the association between specific behaviors and HIV/STI/TB prevalence will likely improve AIDS control programs and prevention efforts in Ethiopia and eventually throughout sub-Saharan Africa.

The U.S. Government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. Government agencies are already active. Ethiopia is one of these targeted countries.

As a key partner in the U.S. Government's LIFE initiative, CDC is working in a collaborative manner with national governments and other agencies to develop programs of assistance to address the HIV/AIDS epidemic in LIFE initiative countries. In particular, CDC's mission in Ethiopia is to work with Ethiopian and international partners to develop and apply effective interventions to prevent HIV infection and associated illness and death from AIDS.

Ethiopia is among the world's countries most adversely affected by the HIV/AIDS epidemic and TB. With an estimated 3 million adults infected with HIV by end of 1999, Ethiopia has the third largest population of HIV-infected persons in the world, accounting for about 9 percent of the world's HIV/AIDS cases. The estimated percent of adults aged 15 to 49 infected with HIV is 10.6 percent, making Ethiopia sixteenth in the world in HIV prevalence. There have been over a million cumulative deaths due to AIDS, with 280,000 occurring in 1999 alone. UNAIDS estimated that 150,000 children are currently living with HIV and that 1.2 million children have been orphaned by AIDS, making Ethiopia third in the number of HIV orphans in the world. The principal routes of HIV transmission are heterosexual and mother-to-infant; HIV and other STIs are closely associated. WHO estimated a TB incidence rate of 260 per 100,000, prevalence rate of 367 per 100,000 and death rate of 82 per 100,000 for Ethiopia in 1997. This represents 156,000 new cases, 221,000 infections and 49,000 deaths for that year. TB cases have been increasing over the years coincident with HIV epidemic; HIV prevalence among TB patients is estimated at 40-50 percent. Data on STIs, however, are scant. These statistics suggest the need for the expansion and improvement of a range of surveillance, care, and prevention activities and services.

Accurate surveillance, as the mainstay of public health programs, provides essential information to focus prevention activities, allocate resources, and monitor effectiveness of programs. Improvement in laboratory capacity to assist in the diagnoses of these and other diseases related to HIV infection and transmission is essential to the HIV/AIDS prevention and control efforts of the Ethiopian people.

B. Eligible Applicants

Assistance will be provided only to the Ethiopian Health and Nutrition Research Institute (EHNRI), a government entity. No other applications are solicited.

EHNRI is the only appropriate and qualified organization to conduct a specific set of activities supportive of the CDC Global AIDS Program's technical assistance to Ethiopia because:

1. EHNRI is uniquely positioned, in terms of legal authority, ability, and credibility among Ethiopian citizens, to collect crucial data on HIV/AIDS prevalence and incidence, as well as other health information, among Ethiopian citizens.

2. EHNRI already has established mechanisms to access health information, enabling it to immediately become engaged in the activities listed in this announcement.

3. The purpose of the announcement is to build upon the existing framework of health information and activities that EHNRI itself has collected or initiated.

4. EHNRI has been mandated functionally by the Ethiopian government to serve as the National Reference Laboratory for HIV/STIs/TB, and to coordinate and implement laboratory diagnostic and quality assurance activities related to these diseases including supporting regional laboratories.

C. Availability of Funds

Approximately $500,000 is available in FY 2001 to fund this award. It is expected that the award will begin on or about September 30, 2001 and will be made for a 12-month budget period within a project period of up to five years. Annual funding estimates may change.

Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

Use of Funds

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

No funds under this announcement shall be used to carry out any program of distributing sterile needles or syringes for the hypodermic injection of any illegal drug.

Applicants may contract with other organizations under these cooperative agreements, however, applicants must perform a substantial portion of the activities (including program management and operations and delivery of prevention services) for which funds are requested.

The costs that are generally allowable in grants to domestic organizations are likewise allowable to foreign institutions and international organizations, with the following exception:

Indirect Costs: With the exception of the American University, Beirut, the Gorgas Memorial Institute, and the World Health Organization, indirect costs will not be paid (either directly or through a sub-award) to organizations located outside the territorial limits of the United States or to international organizations regardless of their location.

D. Where to Obtain Additional Information

This and other CDC announcements can be found on the CDC home page Internet address—http://www.cdc.gov. Click on “Funding” then “Grants and Cooperative Agreements.”

To obtain business management technical assistance, contact: Dorimar Rosado, Grants Management Specialist Grants Management Branch, Procurement and Grants Office Centers for Disease Control and Prevention 2920 Brandywine Road, Room 3000 MS-15 Atlanta, GA 30341-4146, Telephone number: (770) 488-2782, e-mail: dpr7@cdc.gov

For program technical assistance, contact: Tadesse Wuhib, MD, MPH CDC Ethiopia, U.S. Embassy, P.O. Box 1014, Entoto Road, Addis Ababa, Ethiopia, Telephone: 251-9-22-00-84 e-mail: tew7@cdc.gov

Dated: July 17, 2001.
John L. Williams,
Director, Procurement and Grants Office, Centers for Disease and Prevention (CDC).

[FR Doc. 01-18288 Filed 7-20-01; 8:45 am]

BILLING CODE 4163-18-P